DEPARTMENT OF TRANSPORTATION

Federal Aviation Administration

Seventy Fifth Meeting: RTCA Special Committee 147, Minimum Operational Performance Standards for Traffic Alert and Collision Avoidance Systems Airborne Equipment

AGENCY: Federal Aviation Administration (FAA), U.S. Department of Transportation (DOT).

ACTION: Meeting notice of RTCA Special Committee 147, Minimum Operational Performance Standards for Traffic Alert and Collision Avoidance Systems Airborne Equipment.

SUMMARY: The FAA is issuing this notice to advise the public of the Seventy Fifth meeting of RTCA Special Committee 147, Minimum Operational Performance Standards for Traffic Alert and Collision Avoidance Systems Airborne Equipment.

DATES: The meeting will be held February 7, 2013, from 8:30 a.m. to 3:00 p.m.

ADDRESSES: The meeting will be held at RTCA, Inc., 1150 18th Street, NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 147. The agenda will include the following:

February 7, 2013

• Opening Plenary Session

• SC-147 & WG-75 Co-Chairmen opening remarks

• Introductions

• Approval of Agenda & Summary from 74th meeting of SC-147

• Document Approvals

• Change 2 to DO-185B/ED-143

• Revision A to Hybrid Surveillance MOPS (DO-300)/Initial EUROCAE version (ED-xxx)

• EUROCAE WG-75: Status of current Activities

• Working Group Status Reports

• Requirement Working Group (no report expected)

• Surveillance Working Group (no report expected)

• TCAS Program Office Activities

• Future CAS development efforts

• Coordination with SESAR on ACAS X development

• MOPS development planning

• Updated SC-1747 TORs

• AVS and other FAA Activities

• Other Business

• Action Items

• Time and Place of Next Meeting

• Plenary Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 16, 2013.
Richard F. Gonzalez,
Management Analyst, Business Operations Group, ANG-A12, Federal Aviation Administration.

[FR Doc. 2013-02003 Filed 1-29-13; 8:45 am]

BILLING CODE 4910-13-P